OFFICE OF PERSONNEL MANAGEMENT

Submission for Review: Information Collection; Questionnaire for Non-Sensitive Positions (SF 85)

AGENCY: U.S. Office of Personnel Management.

ACTION: 60-Day Notice and request for comments.

SUMMARY: Federal Investigative Services (FIS), U.S. Office of Personnel Management (OPM) offers the general public and other Federal agencies the opportunity to comment on an information collection request (ICR), Office of Management and Budget (OMB) Control No. 3206-NEW, for Questionnaire for Non-Sensitive Positions, Standard Form 85 (SF 85). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 16, 2013. This process is conducted in accordance with 5 CFR 1320.1.

ADDRESSES: Interested persons are invited to submit written comments on the proposed information collection to the Federal Investigative Services, Office of Personnel Management, 1900 E Street NW., Washington, DC 20415, Attention: Donna McLeod or sent via email to FISFormsComments@opm.gov.

FOR FURTHER INFORMATION CONTACT: A copy of this ICR, with applicable supporting documentation, may be obtained by contacting the Federal Investigative Services, Office of Personnel Management, 1900 E Street NW., Washington, DC 20415, Attention: Donna McLeod or sent via email to FISFormsComments@opm.gov.

SUPPLEMENTARY INFORMATION: The Questionnaire for Non-Sensitive Positions, SF 85, housed in a system named e-QIP (Electronic Questionnaires for Investigative Processing), is an information collection completed by applicants for, or incumbents of, Federal Government civilian or military positions, or positions in private entities performing work for the Federal Government under contract. The collection is used as the basis of information:

• by the Federal Government in conducting background investigations of persons under consideration for non-sensitive, low-risk positions as defined in Executive Order 10450 and 5 CFR part 731;

• by agencies in determining whether a person performing work for or on behalf of the Federal Government under a contract should be deemed eligible for logical or physical access or fit to perform the work anticipated, if the contract provides for such an adjudication.

The SF 85 is completed by civilian employees of the Federal Government, military personnel, and non-federal employees, including Federal contractors and individuals otherwise not directly employed by the Federal Government but who perform work for or on behalf of the Federal Government. It is estimated that 55,040 non-Federal individuals, will complete the SF 85 annually for investigations conducted by OPM. The SF 85 takes approximately 30 minutes to complete. The estimated annual burden for this form when used in OPM investigations is 27,520 hours.

Verbiage was added to the Authorization for Release of Information authorizing the Social Security Administration (SSA) to verify respondent's Social Security Number and provide the results to OPM. Clarifying language was added to the Authorization for Release of Information to specify that sources of information may include publically available electronic information. This ICR also requests categorizing the form as a common form. OPM will continue to estimate the burden based on all Federal agencies that submit the SF 85 to OPM for investigation. Once OMB approves the use of this common form, all Federal agencies using the form not in connection with an OPM investigation may request use of this this common form without additional 60 or 30 day notice and comment requirements. At that point, each agency will account for its number of respondents and the burden associated with the agency's use. No other changes are proposed.

U.S. Office of Personnel Management.
Elaine Kaplan,
Acting Director.

[FR Doc. 2013-17239 Filed 7-17-13; 8:45 am]

BILLING CODE 6325-53-P